DEPARTMENT OF DEFENSE

Department of the Army, Corps of Engineers

Notice of Availability of the Draft Supplement II to the Final EIS for the Proposed New Water Supply Reservoir Located in Williamson and Johnson Counties, for the City of Marion, IL

Correction

In notice document 00-29084 appearing on page 68129 in the issue of Tuesday, November 14, 2000, make the following correction:

On page 68129, in the second column, in the eighth line from the bottom, “May 1996” should read “February 1996”. In the same line, following “February 1996.” add “A Final Supplement I to the Final EIS was prepared and released to the public for comment in May 1996.”

[FR Doc. C0-29084 Filed 11-21-00; 8:45 am]

BILLING CODE 1505-01-D

DEPARTMENT OF ENERGY

Office of Energy Efficiency and Renewable Energy

10 CFR Part 430

[Docket Number EE-RM-97-500]

RIN 1904-AA77

Energy Conservation Program for Consumer Products: Central Air Conditioners and Heat Pumps Energy Conservation Standards

Correction

In proposed rule document 00-25336 beginning on page 59590 in the issue of Thursday, October 5, 2000, make the following corrections:

1. On page 59598, the heading for the second table should read “Table V.2-Revised Reverse Engineering Production Cost Multipliers for 3-Ton Unitary Equipment”.

2. On page 59614, in table VI.4A., in column “ARI mean manufacturing cost”, in the ninth line down, “6.1” should read “16.1”.

3. On page 59626, in table VI.29., in column “Trial std 5”, in the last line, “12.81” should read “12.8”.

4. On page 59627, in the second column, footnote 39 should read “³⁹It is possible the NPV does not include the value of avoided power plants. It should be captured in the price of electricity, however, DOE used the same AEO 2000 prices forecasts in the base case projection as well as each trial standard level. It is entirely possible the average and marginal electricity prices do not change, however, DOE did not undertake an analysis to determine the effect, if any, of standards on electricity prices.”.

5. On page 59627, in the third column, footnote 36 should be removed.

[FR Doc. C0-25336 Filed 11-21-00; 8:45 am]

BILLING CODE 1505-01-D

DEPARTMENT OF THE INTERIOR

Minerals Management Service

30 CFR Part 203

RIN 1010-AC71

Relief or Reduction in Royalty Rates—Deep Water Royalty Relief for OCS Oil and Gas Leases Issued After 2000

Correction

In proposed rule document 00-29372 beginning on page 69259 in the issue of Thursday, November 16, 2000, make the following corrections:

1. On page 69263, the table headings are corrected to read as follows:

Proposed Modifications to DWRR Applications
Element | Current and continuing program: Applies to pre-Act leases | Proposed changes: Applies to post-2000 deep water leases
Eligibility (Central, Western, and western part of Eastern Gulf of Mexico) | Leases in 200m or more water depth issued before 1996 | Leases in 200m or more water depth issued after 2000.
Royalty-free production can come from | Any production from the field until cumulative recovery volume equals the suspension volume | Only production from resources identified in the application until cumulative recovery equals the suspension volume
Minimum suspension volume for non-producing leases | For fields that did not produce before the Act, matches eligible lease suspension volumes (17.5, 52.5, 87.5 MMBOE) in equivalent water depths | For development projects, matches volumes designated in sale and lease documents for various water depths of 200m or greater plus 10 percent of reserves.
Credit for sunk costs in application | For fields with pre-Act leases that did not produce before the application, after-tax costs of and after discovery well used in qualification | For development projects, after-tax cost of only the discovery well, except when the application involves a pre-Act lease.
Threshold oil and gas price levels for lifting relief | Statute sets threshold price for light sweet crude oil and natural gas | Lease terms set threshold price for light sweet crude oil and natural gas.

2. On page 69264, the table headings are corrected to read as follows:

Proposed Modifications to DWRR Applications
Element | Current and discontinuing program: Applies to pre-Act leases | Proposed changes: Applies to pre-Act and post-2000 deep water leases
Discount rate used in evaluation | Same rate used on viability and profitability tests, applicant chooses between 10% and 15% | Use 10% on viability test, applicant chooses rate between 10% and 15% for profitability test.
Redetermination of field qualification or volume by MMS | Available for new well or seismic data, 25% lower prices, or 20% higher cost | Available anytime after relief relinquished or withdrawn. Otherwise, for new well or seismic data, 25% lower prices, 20% higher cost, or more efficient development system.
Deadline for starting fabrication | Within 1 year of approval, extendable for up to 1 year | Within 18 months of approval, extendable for up to 6 months.
Correction for overestimating cost by 20% or more | Retain only half of suspension volume granted | Retain only half or smaller of granted suspension volume or most likely resource size.
Minimum suspension volume for expansion project | None | 10 percent reserves.
Credit for sunk costs in application for expansion project | None | After-tax cost of the discovery well.

§203.74 [Corrected]

3. On page 69273, in the second column, in the section heading, “§203.70” should read “§203.74”.

[FR Doc. C0-29372 Filed 11-21-00; 8:45 am]

BILLING CODE 1505-01-D

DEPARTMENT OF TRANSPORTATION

Federal Highway Administration

Environmental Impact Statement: Hillsborough and Rockingham Counties, New Hampshire; Correction

Correction

In notice document 00-28817 beginning on page 67469 in the issue of Thursday, November 9, 2000, make the following correction:

On page 67469, in the third column, under the heading Correction, in the tenth line, “NH-Manchester Campus, 300” should read “NH-Manchester Campus, 400”.

[FR Doc. C0-28817 Filed 11-21-00; 8:45 am]

BILLING CODE 1505-01-D